INTERNATIONAL TRADE COMMISSION

[Investigation No. 337-TA-1018]

Certain Athletic Footwear; Commission's Determination Not To Review an Initial Determination Terminating the Investigation; Issuance of Consent Order; Termination of the Investigation

AGENCY: U.S. International Trade Commission.

ACTION: Notice.

SUMMARY: Notice is hereby given that the U.S. International Trade Commission has determined not to review the presiding administrative law judge's (“ALJ”) initial determination (“ID”) (Order No. 11) terminating the respondents based on consent order stipulations and a joint proposed consent order. The Commission has terminated the investigation.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on September 13, 2016, based on a complaint, including supplements, filed on behalf of Reebok International Ltd. of Canton, Massachusetts and Reebok International Limited of England. (“complainants”). 81 FR 62920 (Sept. 13, 2016). The complaint as supplemented alleges violations of section 337 based upon the importation into the United States, the sale for importation, and the sale within the United States after importation of certain athletic footwear by reason of infringement of certain claims of U.S. Patent No. 7,637,035 and U.S. Patent No. 8,505,221. The complaint further alleges that an industry in the United States exists as required by subsection (a)(2) of section 337. The Commission's notice of investigation named the following respondents: TRB Acquisitions LLC (“TRB”) of New York, New York; RBX Active 01 LLC, RBX Direct LLC, and RBX.COM LLC (collectively, “RBX”) all of New York, New York; and Elite Performance Footwear, LLC (“Elite”) of New York, New York.

On November 14, 2016, respondent TRB filed a motion to terminate the investigation as to TRB based on a consent order stipulation and proposed consent order. On November 25, 2016, the RBX respondents filed a motion to terminate the investigation as to the RBX respondents based on a consent order stipulation and proposed consent order. Finally, on December 1, 2016, respondent Elite filed a motion to terminate the investigation as to Elite based on a consent order stipulation and proposed consent order. Complainants originally opposed TRB's motion but later complainants and respondents filed a joint notice on December 12, 2016, that complainants now join respondents' motions to terminate. This filing included a joint proposed consent order,

On December 20, 2016, the ALJ issued an ID (Order No. 11) terminating the investigation based on the consent order stipulations and a joint proposed consent order. The ALJ found that the consent order stipulations complied with the rules and that the respondents represented that “there are no other agreements, written or oral, express or implied between the parties concerning the subject matter of the investigation.” The ALJ also found that the joint proposed consent order complies with Commission Rule 210.21(c)(4). Finally, the ALJ found termination of the investigation “does not impose any undue burdens on the public health and welfare, competitive conditions in the United States economy, production of like or directly competitive articles in the United States, or United States consumers.”

The Commission has determined not to review the subject ID and has issued the joint consent order. The Commission has terminated the investigation.

The authority for the Commission's determination is contained in section 337 of the Tariff Act of 1930, as amended (19 U.S.C. 1337), and in part 210 of the Commission's Rules of Practice and Procedure (19 CFR part 210).

By order of the Commission.
Issued: January 17, 2017.
Lisa R. Barton,
Secretary to the Commission.

[FR Doc. 2017-01482 Filed 1-23-17; 8:45 am]

BILLING CODE 7020-02-P